DEPARTMENT OF ENERGY

Federal Energy Regulatory Commission

Combined Notice of Filings #1

Take notice that the Commission received the following electric corporate filings:

Docket Numbers: EC13-155-000.

Applicants: Consolidated Edison Company of New York,.

Description: Section 203 Application of Consolidated Edison Company of New York, Inc.

Filed Date: 9/26/13.

Accession Number: 20130926-5136.

Comments Due: 5 p.m. ET 10/17/13.

Take notice that the Commission received the following exempt wholesale generator filings:

Docket Numbers: EG13-63-000.

Applicants: Mountain Wind Power, LLC.

Description: Notice Of Self-Certification Of Exempt Wholesale Generator Status Of Mountain Wind Power, LLC.

Filed Date: 9/26/13.

Accession Number: 20130926-5096.

Comments Due: 5 p.m. ET 10/17/13.

Docket Numbers: EG13-64-000.

Applicants: Mountain Wind Power, LLC.

Description: Notice Of Self-Certification Of Exempt Wholesale Generator Status Of Mountain Wind Power II, LLC.

Filed Date: 9/26/13.

Accession Number: 20130926-5098.

Comments Due: 5 p.m. ET 10/17/13.

Take notice that the Commission received the following electric rate filings:

Docket Numbers: ER10-1847-004; ER10-1856-004; ER10-1890-004; ER11-2160-004; ER10-1962-004; ER11-4677-005; ER12-2444-004; ER10-1989-004; ER10-1992-004; ER11-4678-005; ER12-631-005; ER10-1971-012.

Applicants: Diablo Winds, LLC, FPL Energy Cabazon Wind, LLC, FPL Energy Green Power Wind, LLC, FPL Energy Montezuma Wind, LLC, High Winds, LLC, NextEra Energy Montezuma II Wind, LLC, North Sky River Energy, LLC, Sky River LLC, Victory Garden Phase IV, LLC, Vasco Winds, LLC, Windpower Partners 1993, LLC, NextEra Energy Power Marketing, LLC.

Description: Notification of Non-Material Change in Status of the NextEra Resources Entities.

Filed Date: 9/26/13.

Accession Number: 20130926-5139.

Comments Due: 5 p.m. ET 10/17/1.

Docket Numbers: ER12-2643-003.

Applicants: California Independent System Operator Corporation.

Description: 2013-09-26_DGD to be effective 11/18/2012.

Filed Date: 9/26/13.

Accession Number: 20130926-5091.

Comments Due: 5 p.m. ET 10/17/13.

Docket Numbers: ER13-1963-001.

Applicants: Midcontinent Independent System Operator, Inc.

Description: 09-26-2013 Sch 43C Ameren Deficiency Response to be effective 1/1/2013.

Filed Date: 9/26/13.

Accession Number: 20130926-5069.

Comments Due: 5 p.m. ET 10/17/13.

Docket Numbers: ER13-2087-001.

Applicants: Arizona Public Service Company.

Description: Revisions to Rate Schedule 268—Compliance Filing to be effective 10/1/2013.

Filed Date: 9/26/13.

Accession Number: 20130926-5037.

Comments Due: 5 p.m. ET 10/17/13.

Docket Numbers: ER13-2456-000.

Applicants: Arizona Public Service Company.

Description: Rate Schedule No. 249 Amendment 1 Round Valley Substation to be effective 10/1/2013.

Filed Date: 9/26/13.

Accession Number: 20130926-5038.

Comments Due: 5 p.m. ET 10/17/13.

Docket Numbers: ER13-2457-000.

Applicants: Arizona Public Service Company.

Description: Service Agreement No. 219, Amendment 1 Saddlebrooke Ranch Substation to be effective 10/1/2013.

Filed Date: 9/26/13.

Accession Number: 20130926-5039.

Comments Due: 5 p.m. ET 10/17/13.

Docket Numbers: ER13-2458-000.

Applicants: Tuscola Wind II, LLC.

Description: Tuscola Wind II, LLC Application for Market-Based Rates to be effective 11/10/2013.

Filed Date: 9/26/13.

Accession Number: 20130926-5062.

Comments Due: 5 p.m. ET 10/17/13.

Docket Numbers: ER13-2459-000.

Applicants: Elizabethtown Energy, LLC.

Description: Seller Category Revision to Market-Based Rate Tariff & Request for Notice Waiver to be effective 9/27/2013.

Filed Date: 9/26/13.

Accession Number: 20130926-5063.

Comments Due: 5 p.m. ET 10/17/13.

Docket Numbers: ER13-2460-000.

Applicants: Lumberton Energy, LLC.

Description: Seller Category Revision to Market-Based Rate Tariff & Request for Notice Waiver to be effective 9/27/2013.

Filed Date: 9/26/13.

Accession Number: 20130926-5067.

Comments Due: 5 p.m. ET 10/17/13.

Docket Numbers: ER13-2461-000.

Applicants: Pheasant Run Wind, LLC.

Description: Pheasant Run Wind, LLC Application for Market-Based Rates to be effective 11/25/2013.

Filed Date: 9/26/13.

Accession Number: 20130926-5101.

Comments Due: 5 p.m. ET 10/17/13.

Docket Numbers: ER13-2462-000.

Applicants: Pheasant Run Wind II, LLC.

Description: Pheasant Run Wind II, LLC Application for Market-Based Rates to be effective 2/1/2014.

Filed Date: 9/26/13.

Accession Number: 20130926-5103.

Comments Due: 5 p.m. ET 10/17/13.

Docket Numbers: ER13-2465-000.

Applicants: Pepco Energy Services, Inc.

Description: Application of Pepco Energy Services, LLC to allow PJM Interconnection, L.L.C. to terminate payments for Reactive Supply and Voltage Control from Generation Resources in connection with retired plants.

Filed Date: 9/26/13.

Accession Number: 20130926-5134.

Comments Due: 5 p.m. ET 10/17/13.

Docket Numbers: ER13-2466-000.

Applicants: Unitil Energy Systems, Inc.

Description: Notice of Termination of Unitil Energy Systems, Inc. Rate Schedule No. 2 with New Hampshire Hydro Associates.

Filed Date: 9/26/13.

Accession Number: 20130926-5135.

Comments Due: 5 p.m. ET 10/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2013.
Nathaniel J. Davis, Sr.,
Deputy Secretary.

[FR Doc. 2013-24366 Filed 10-4-13; 8:45 am]

BILLING CODE 6717-01-P